DEPARTMENT OF TRANSPORTATION

Federal Aviation Adminstration

14 CFR Part 71

[Docket No. FAA-2005-22538; Airspace Docket No. 05-AAL-30]

Revision of Class E Airspace; Koliganek, AK

Correction

In rule document 06-24230 beginning on page 75392 in the issue of Tuesday, December 20, 2005, make the following correction:

§ 71.1 [Corrected]

On page 75393, in § 71.1, in the first column, in the eighth line from the bottom,

“long. 157°5′34″ W.”

should read

“long. 157°15′34″ W.”.

[FR Doc. C5-24230 Filed 3-7-06; 8:45 am]

BILLING CODE 1505-01-D

DEPARTMENT OF TRANSPORTATION

Federal Aviation Administration

14 CFR Part 71

[Docket No. 2003-16329; Airspace Docket 02-ANM-01]

Revision of Class E Airspace; Cheyenne, WY

Correction

In rule document 05-20465 appearing on page 59653 in the issue of Thursday, October 13, 2005, make the following corrections:

§ 71.1 [Corrected]

1. On page 59653, in the third column, in §71.1, under the heading ANM WY E5 Cheyenne WY [Revised], in the 19th line, “104°99′00″W.” should read “104°00′00″W.”.

2. On the same page, in the same column, in the same section, under the same heading, in the 20th line, “southeast” should read “southwest”.

[FR Doc. C5-20465 Filed 3-7-06; 8:45 am]

BILLING CODE 1505-01-D